NUCLEAR REGULATORY COMMISSION

[NRC-2011-0071; Docket No. 50-382]

Entergy Operations, Inc.; Biweekly Notice; Notice of Issuance of Amendment to Facility Operating License; Correction

AGENCY: Nuclear Regulatory Commission.

ACTION: Notice of issuance of amendment; correction.

SUMMARY: This document corrects a notice appearing in the Federal Register on April 5, 2011 (76 FR 18806) that incorrectly excluded the date of a supplement to the amendment request. This action is necessary to correct a missing date on the notice of issuance of amendment.

FOR FURTHER INFORMATION CONTACT: Nageswaran Kalyanam, Office of Nuclear Reactor Regulation, U.S. Nuclear Regulatory Commission, Washington, DC 20555-0001; telephone (301) 415-1480, e-mail: kaly.kalyanam@nrc.gov.

SUPPLEMENTARY INFORMATION: On page 18806, appearing near the top of the first column under the subheading “Date of amendment request,” fourth line, it is corrected to read from “January 4 and March 7, 2011” to “January 4, March 7, and March 18, 2011”.

Dated in Rockville, Maryland, this 27th day of April 2011.
For the Nuclear Regulatory Commission.
Nageswaran Kalyanam,
Project Manager, Plant Licensing Branch IV, Division of Operating Reactor Licensing, Office of Nuclear Reactor Regulation.

[FR Doc. 2011-11107 Filed 5-5-11; 8:45 am]

BILLING CODE 7590-01-P